DEPARTMENT OF HEALTH AND HUMAN SERVICES

National Institutes of Health

Government-Owned Inventions; Availability for Licensing

AGENCY: National Institutes of Health, Public Health Service, DHHS.

ACTION: Notice.

SUMMARY: The inventions listed below are owned by agencies of the U.S. Government and are available for licensing in the U.S. in accordance with 35 U.S.C. 207 to achieve expeditious commercialization of results of federally-funded research and development. Foreign patent applications are filed on selected inventions to extend market coverage for companies and may also be available for licensing.

ADDRESSES: Licensing information and copies of the U.S. patent applications listed below may be obtained by writing to the indicated licensing contact at the Office of Technology Transfer, National Institutes of Health, 6011 Executive Boulevard, Suite 325, Rockville, Maryland 20852-3804; telephone: 301/496-7057; fax: 301/402-0220. A signed Confidential Disclosure Agreement will be required to receive copies of the patent applications.

Methods for Prophylaxis and Treatment of HER-2/neu Tumors

John C. Morris, Jay A. Berzofsky, Yoshio Sakai, Jong-Myun Park, Masake Terabe (all of NCI).

Serial No. 60/422,395 filed 30 Oct 2002.

Licensing Contact: Susan S. Rucker; 301/435-4478; ruckers@od.nih.gov.

This application relates to methods for cancer prophylaxis and treatment. More particularly, the application relates to methods for the treatment and prophylaxis of cancers caused by the activity of the HER-2/neu/erbB-2 gene employing immunotherapy. Such cancers include breast cancers, cancers of the female genital tract and some cancers of the gastrointestinal tract.

The methods claimed involve the use of a HER-2/neu vaccine employing recombinant non-replicating adenovirus expressing a HER-2/neu/erbB-2 gene. In a preferred embodiment the vaccine comprises a recombinant non-replicating adenoviral vector encoding a HER-2/neu/erbB-2 gene that is expressed as a truncated HER-2/neu/erbB-2 protein. Antigen presenting cells, such as dendritic cells infected with the recombinant adenoviral vector, process and present the truncated HER-2/neu/erbB-2 protein, thereby stimulating an immune response. Preferred HER-2/neu/erbB-2 proteins contain regions of the extracellular domain and the transmembrane domain of the intact HER-2/neu/erbB-2 gene product and do not contain any tyrosine kinase domains.

This work has not yet been published.

gp100 Cancer Antigens

Steven A. Rosenberg et al. (NCI).

U.S. Patent 5,844,075 issued 10 Dec. 1998.

Licensing Contact: Jonathan Dixon; 301/435-5559; dixonj@od.nih.gov.

DHHS announces the availability of select gp100 cancer antigens for licensing. These antigens are composed of a class that fall under the following definition: gp100 P Core Peptide(s), meaning any gp100 peptide of nine (9) to fifteen (15) amino acids in length which is capable of eliciting an HLA-A2.1-restricted cytotoxic T cell response, and which comprises the formula X1X2X3PGPX5TX4, where X1 is any naturally occurring amino acid, X2 is any hydrophobic aliphatic amino acid; X3 is any naturally occurring amino acid; X4 is any hydrophobic aliphatic amino acid, and X5 is the amino acid V, C, I, L, or M.

GP100 is a tumor specific melanoma antigen. GP100 has been shown to be successful in stimulating the immune response to melanoma in humans.

Novel Cyclic Polyamines That Release Nitric Oxide in a Biphasic Manner

David Waterhouse et al. (NCI).

DHHS Reference No. E-189-2002/0 filed 07 May 2002.

Licensing Contact: Norbert Pontzer; 301/435-5502; e-mail: np59n@nih.gov.

Nitric oxide (NO), a simple diatomic molecule, plays a diverse and complex role in cellular physiology. Although medical research is rapidly discovering potential therapeutic uses for NO, the exogenous administration of gaseous NO is not feasible because of low solubility in physiological buffers, widespread pharmacological actions and a short half-life in the body. NCI scientists have previously produced a number of nucleophile/nitric oxide adducts (diazeniumdiolates) that spontaneously dissociate at physiological pH to release nitric oxide (NO) by stable first order kinetics. These compounds allow for the localized action of NO by, for example, having NO released from biocompatible medical devices coated with the NO-releasing compounds or polymers. The half-life of NO release from currently available compounds and polymers can vary from minutes to many hours under physiological conditions. However, it could be useful to have an initial high rate of NO release followed by a subsequent slower longer term release from a single compound. These inventors have now discovered polydiazeniumdiolated materials that, as single crystals compounds, provide the multiple multiphasic NO release necessary to accomplish that goal. They also provide medical uses of these compounds such as treatment of infection, inhibition of tumor cell growth, conjugation to antibodies, treatment of ischemia/repurfusion injury, attachment to polymers, and medical substrates such as stents coated with these compounds.

Dated: March 11, 2003.
Steven M. Ferguson,
Acting Director, Division of Technology Development and Transfer, Office of Technology Transfer, National Institutes of Health.

[FR Doc. 03-6441 Filed 3-17-03; 8:45 am]

BILLING CODE 4140-01-P